CORPORATION FOR NATIONAL AND COMMUNITY SERVICE

Privacy Act of 1974; System of Records

AGENCY: Corporation for National and Community Service.

ACTION: Notice of a new system of records.

SUMMARY: In accordance with the Privacy Act of 1974, the Corporation for National and Community Service (CNCS) Chief of Program Operations Immediate Office proposes to operate a new system of records to manage, administer, and evaluate the AmeriCorps Child Care Benefit Program. The paper and electronic records in the system include, but are not limited to, the documents required to determine whether AmeriCorps Members are eligible and if their child care expenses should be reimbursed.

DATES: You may submit comments until October 3, 2019. This System of Records Notice (SORN) will be effective October 3, 2019 unless CNCS receives any timely comments which would result in a contrary determination.

ADDRESSES: You may submit comments, identified by system name and number, to CNCS via any of the following methods:

1. Electronically through regulations.gov.

Once you access regulations.gov, locate the web page for this SORN by searching for CNCS-06-CPO-ACB-AmeriCorps Child Care Benefit System (ACB). If you upload any files, please make sure they include your first name, last name, and the name of the proposed SORN.

2. By email at privacy@cns.gov.

3. By mail: Corporation for National and Community Service, Attn: Chief Privacy Officer, OIT, 250 E St. SW, Washington, DC 20525

4. By hand delivery or courier to CNCS at the address for mail between 9:00 a.m. and 4:00 p.m. Eastern Standard Time, Monday through Friday, except for Federal holidays.

Please note that all submissions received may be posted without change to regulations.gov, including any personal information.

FOR FURTHER INFORMATION CONTACT: If you have general questions about the system of record, you can email them to privacy@cns.gov or mail them to the address in the ADDRESSES section above. Please include the system of record's name and number.

SUPPLEMENTARY INFORMATION: The website for the AmeriCorps Child Care Benefits Program is located at https://americorpschildcare.com and the forms used to collect information into the system are located at https://americorpschildcare.com/index.cfm?tab2.

CNCS determined that a new notice is the most efficient, logical, taxpayer-friendly, and user-friendly method of complying with the publication requirements of the Privacy Act. The subject records reflect a common purpose, common functions, and common user community. This Notice of a New Systems of Records, as required by 5 U.S.C. 552a, also fully complies with all Office of Management and Budget policies.

SYSTEM NAME AND NUMBER:

CNCS-06-CPO-ACB-AmeriCorps Child Care Benefit System (ACB).

SECURITY CLASSIFICATION:

Unclassified.

SYSTEM LOCATION:

Chief of Program Operations Immediate Office, Corporation for National and Community Service, 250 E St. SW, Washington, DC 20525.

SYSTEM MANAGER(S):

ACB Information Owner, Chief of Program Operations Immediate Office, Corporation for National and Community Service, 250 E St. SW, Washington, DC 20525.

AUTHORITY FOR MAINTENANCE OF THE SYSTEM:

The National and Community Service Act of 1990, as amended (42 U.S.C. 12501 et seq.), the Domestic Volunteer Service Act of 1973, as amended (42 U.S.C. 4950 et seq.), and Executive Order 9397, as amended.

PURPOSE(S) OF THE SYSTEM:

The Corporation for National and Community Service (CNCS) uses the system to manage, administer, and evaluate the child care benefits program offered to eligible AmeriCorps Service Members (Members).

CATEGORIES OF INDIVIDUALS COVERED BY THE SYSTEM:

The system contains information about Members who have applied for, or received, child care benefits, plus their AmeriCorps supervisors, children who required child care, spouses, and other household members.

CATEGORIES OF RECORDS IN THE SYSTEM:

The system may include names, genders, dates of birth, ages, phone numbers, email addresses, physical addresses, National Service Participation Identification (ID) numbers, Social Security Numbers, Tax ID Numbers, Driver's License numbers and information, State issued ID card information, information on income including tax documents, employment information (e.g., roles and dates of service), information on businesses (e.g., licenses and tax documents), academic enrollment information, child custody agreements, court orders, birth certificates, information on family relationships, and information about child care services.

RECORD SOURCE CATEGORIES:

The sources of records in the system can include, but are not limited to, Members and their representatives, child care providers and their representatives, other CNCS systems of records, and public sources.

ROUTINE USES OF RECORDS MAINTAINED IN THE SYSTEM, INCLUDING CATEGORIES OF USERS AND PURPOSES OF SUCH USES:

In addition to those disclosures generally permitted under 5 U.S.C. 552a(b) of the Privacy Act of 1974, as amended, (Privacy Act) all or a portion of the records or information contained in the system may be disclosed to authorized entities, as is determined to be relevant and necessary, as a routine use pursuant to 5 U.S.C. 552a(b)(3) as follows:

1. To the Office of the President, a Member of Congress, or their personnel in response to a request made on behalf of, and at the request of, the individual who is the subject of the record. These advocates will receive the same records that individuals would have received if they filed their own request.

2. To the Department of Justice (DOJ) when:

a. The agency, or any component thereof;

b. Any employee of the agency in his or her official capacity;

c. Any employee of the agency in his or her individual capacity where DOJ has agreed to represent the employee; or

d. The United States, where the agency determines that litigation is likely to affect the agency or any of its components, is a party to litigation or has an interest in litigation, and the use of such records by the DOJ is deemed by the agency to be relevant and necessary to the litigation, provided, however, that in each case, the agency determines that disclosure of the records to the DOJ is a use of the information contained in the records that is compatible with the purpose for which the records were collected.

3. To a court, administrative body, or adjudicative body before which the agency is authorized to appear, when:

a. The agency, or any component thereof;

b. Any employee of the agency in his or her official capacity;

c. Any employee of the agency in his or her individual capacity where the agency has agreed to represent the employee; or

d. The United States, where the agency determines that litigation is likely to affect the agency or any of its components, is a party to litigation or has an interest in litigation, and the use of such records by the DOJ is deemed by the agency to be relevant and necessary to the litigation, provided, however, that in each case, the agency determines that disclosure of the records to the DOJ is a use of the information contained in the records that is compatible with the purpose for which the records were collected.

4. To a Federal or State agency, judicial body, administrative body, adjudicative body, another party or their representative to a legal matter, or witness when (a) the Federal Government is a party or potential party to a judicial, administrative, or adjudicative proceeding and (b) the record is both necessary and relevant or potentially relevant to that proceeding.

5. To prospective claimants and their attorneys to negotiate the settlement of an actual or prospective claim against CNCS or its current or former employees, in advance of the initiation of formal litigation or proceedings.

6. To an arbiter, mediator, or another individual authorized to investigate or settle a grievance, complaint, or appeal filed by an individual who is the subject of, or party to, the record.

7. To any agency, entity, or individual when necessary to acquire information relevant to an investigation.

8. To an appropriate Federal, State, local, tribal, international, or foreign law enforcement agency or other appropriate authority charged with investigating or prosecuting a violation or enforcing or implementing a statute, rule, regulation, or order, when a record, either on its face or in conjunction with other information, indicates a violation or potential violation of civil or criminal law or regulatory violations and such disclosure is proper and consistent with the official duties of the person making the disclosure.

9. To appropriate agencies, entities, and persons when:

a. CNCS suspects or has confirmed that there has been a breach of the system of records;

b. CNCS has determined that as a result of the suspected or confirmed breach there is a risk of harm to individuals, CNCS (including its information systems, programs, and operations), the Federal Government, or national security; and

c. The disclosure made to such agencies, entities, and persons is reasonably necessary to assist in connection with CNCS's efforts to respond to the suspected or confirmed breach or to prevent, minimize, or remedy such harm.

10. To another Federal agency or Federal entity, when CNCS determines that information from the system of records is reasonably necessary to assist the recipient agency or entity in:

a. Responding to a suspected or confirmed breach or

b. Preventing, minimizing, or remedying the risk of harm to individuals, the recipient agency or entity (including its information systems, programs, and operations), the Federal Government, or national security, resulting from a suspected or confirmed breach.

11. To the National Archives and Records Administration (NARA) as needed to assist CNCS with records management, conduct inspections of CNCS's records management practices, and carry out other activities required by 44 U.S.C. 2904 and 2906.

12. To NARA's Office of Government Information Services so that it may review agency compliance with the Freedom of Information Act of 1967, as amended, (FOIA) provide mediation services to resolve FOIA disputes, and identify policies and procedures for improving FOIA compliance, and to the extent necessary to fulfill its responsibilities as required by 5 U.S.C. 552(h)(2)(A-B) and (3).

13. To respond to a FOIA request per the processes established in 45 CFR part 2507 or a Privacy Act request per the requirements in 45 CFR part 2508.

14. To a Federal agency in connection with hiring or retaining an employee, vetting a Member or employee in response to the issuance of a security clearance, conducting a background check for suitability or security investigation of an individual, classifying jobs, the letting of a contract, or the issuance of a license, contract, grant, or other benefit by the requesting agency, and to the extent that the information is relevant and necessary to the requesting agency's decision on the matter.

15. To agency contractors, grantees, interns, and other authorized individuals engaged to assist the agency in the performance of a project, contract, service, grant, cooperative agreement, or other activity and require access to the records to accomplish an agency function, task, or assignment. Individuals provided information under this routine use are subject to the same Privacy Act requirements and limitations on disclosure as are applicable to CNCS employees.

16. To the Equal Employment Opportunity Commission when requested in connection with investigations into alleged or possible discrimination practices in the Federal sector, compliance by Federal agencies with the Uniform Guidelines on Employee Selection Procedures or other functions vested in the Commission, and to otherwise ensure compliance with the provisions of 5 U.S.C. 7201.

17. To an agency or organization to audit or oversee operations as authorized by law, but only such information as is necessary and relevant to such audit or oversight function.

18. To any official or designee charged with the responsibility to conduct qualitative assessments at a designated statistical agency and other well established and trusted public or private research organizations, academic institutions, or agencies for an evaluation, study, research, or other analytical or statistical purpose.

19. To a contractor, grantee, or other recipient of Federal funds when the record to be released reflects serious inadequacies with the recipient's personnel, and disclosure of the record permits the recipient to effect corrective action in the Federal Government's best interests.

20. To a contractor, grantee, or other recipient of Federal funds indebted to the Federal Government through its receipt of Federal funds if release of the record would allow the debtor to collect from a third party.

21. To consumer reporting agencies (as defined in the Fair Credit Reporting Act, 14 U.S.C. 1681a(f), or the Federal Claims Collection Act of 1966, 31 U.S.C. 3701(a)(3)), the U.S. Department of the Treasury, other Federal agencies maintaining debt servicing centers, and private collection contractors to collect a debt owed to the Federal Government as provided in regulations promulgated by CNCS.

22. To the news media and the public, with the approval of the Chief Privacy Officer in consultation with counsel, when there exists a legitimate public interest in the disclosure of the information, when disclosure is necessary to preserve confidence in the integrity of CNCS, or when disclosure is necessary to demonstrate the accountability of CNCS' officers, employees, or individuals covered by the system, except to the extent the Chief Privacy Officer determines that release of the specific information in the context of a particular case would constitute a clearly unwarranted invasion of personal privacy.

POLICIES AND PRACTICES FOR STORAGE OF RECORDS:

Paper records are stored in locked rooms, file cabinets, and desks. Electronic records and backups are stored on secure servers and encrypted media to include computers and network drives.

POLICIES AND PRACTICES FOR RETRIEVAL OF RECORDS:

Records in the system about a Member may be retrieved by their name and email address.

POLICIES AND PRACTICES FOR RETENTION AND DISPOSAL OF RECORDS:

All records in the system will be retained until their retention and disposal schedule is approved by NARA, then retained and disposed according to the applicable schedule.

ADMINISTRATIVE, TECHNICAL, and PHYSICAL SAFEGUARDS:

Paper records are maintained in locked rooms, file cabinets, and desks when not in use. Electronic records are maintained in accordance with National Institute of Standards and Technology Special Publication 800-53 Rev. 4, Security and Privacy Controls for Federal Information Systems and Organizations or the updated equivalent. Access to the records is limited to authorized personnel who require the information to complete their assigned tasks and have been trained how to properly handle and safeguard the records.

RECORD ACCESS PROCEDURES:

In accordance with 45 CFR part 2508, Implementation of the Privacy Act, individuals wishing to access their own records as stored within the system of records may contact the FOIA Officer/Privacy Act Officer by sending (1) an email to FOIA@cns.gov or (2) a letter to the System Manager. Individuals may also go in-person to the System Location and ask to speak to the FOIA Officer/Privacy Act Officer within the Office of General Counsel. Individuals who make a request must include enough identifying information (i.e. full name, current address, date, and signature) to locate their records, indicate that they want to access their records, and be prepared to confirm their identity as required by 45 CFR part 2508.

CONTESTING RECORD PROCEDURES:

Individuals who wish to contest their own records as stored within the system of records may contact the FOIA Officer/Privacy Act Officer in writing via the contact information in the Record Access Procedures section. Individuals who make a request must include enough identifying information to locate their records, an explanation of why they think their records are incomplete or inaccurate, and be prepared to confirm their identity as required by 45 CFR part 2508.

NOTIFICATION PROCEDURES:

Individuals who wish to contest their own records as stored within the system of records may contact the FOIA Officer/Privacy Act Officer via the contact information in the Record Access Procedures section. Individuals who make a request must include enough identifying information to locate their records, indicate that they want to be notified whether their records are included in the system, and be prepared to confirm their identity as required by 45 CFR part 2508.

EXEMPTIONS PROMULGATED FOR THE SYSTEM:

None.

HISTORY:

None.

Dated: August 22, 2019.
Ndiogou Cisse,
Senior Agency Official for Privacy and Chief Information Officer.

[FR Doc. 2019-18917 Filed 8-30-19; 8:45 am]

BILLING CODE 6050-28-P